DEPARTMENT OF COMMERCE

Foreign-Trade Zones Board

[Docket 62-2011]

Foreign-Trade Zone 78—Nashville, TN, Application for Subzone, Hemlock Semiconductor, L.L.C. (Polysilicon); Clarksville, TN

An application has been submitted to the Foreign-Trade Zones Board (the Board) by the Metropolitan Government of Nashville and Davidson County, grantee of FTZ 78, requesting special-purpose subzone status for the polysilicon manufacturing facility of Hemlock Semiconductor, L.L.C. (HSLLC), located in Clarksville, Tennessee. The application was submitted pursuant to the provisions of the Foreign-Trade Zones Act, as amended (19 U.S.C. 81a-81u), and the regulations of the Board (15 CFR part 400). It was formally filed on October 5, 2011.

The HSLLC facility (800 employees, 1,831 acres, 10,000 metric tons capacity) is located at 1000 Solar Way, Clarksville, Tennessee. The facility will be used for the manufacturing and distribution of polysilicon, silicon tetrachloride, trichlorosilane, dichlorosilane, hydrogen chloride and direct process residue. Components and materials sourced from abroad (representing 5% of the value of the finished product) include: silicon metal, silicon tetrachloride, trichlorosilanes and dichlorosilanes (duty rate ranges from duty-free to 5.5%). HSLLC has indicated that they will accept a restriction prohibiting the admission of foreign status silicon metal subject to an antidumping or countervailing duty order into the proposed subzone.

FTZ procedures could exempt HSLLC from customs duty payments on the foreign components used in export production. The company anticipates that some 75 percent of the plant's shipments will be exported. On its domestic sales, HSC would be able to choose the duty rates during customs entry procedures that apply to finished products (duty rate ranges from duty-free to 6.5%) for the foreign inputs noted above. FTZ designation would further allow HSLLC to realize logistical benefits through the use of weekly customs entry procedures. Customs duties also could possibly be deferred or reduced on foreign status production equipment. The request indicates that the savings from FTZ procedures would help improve the plant's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is December 12, 2011. Rebuttal comments in response to material submitted during the foregoing period may be submitted during the subsequent 15-day period to December 27, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Elizabeth Whiteman at Elizabeth.Whiteman@trade.gov or (202) 482-0473.

Dated: October 5, 2011.
Andrew McGilvray,
Executive Secretary.

[FR Doc. 2011-26387 Filed 10-11-11; 8:45 am]

BILLING CODE 3510-DS-P